DEPARTMENT OF COMMERCE

National Oceanic and Atmospheric Administration

[I.D. 042006A]

Endangered and Threatened Species; Take of Anadromous Fish

AGENCY: National Marine Fisheries Service (NMFS), National Oceanic and Atmospheric Administration (NOAA), Commerce.

ACTION: Receipt of applications to renew and to modify scientific permits; request for comments.

SUMMARY: Notice is hereby given that NMFS has received an application to modify an existing permit for scientific research from the Southwest Fisheries Science Center (SWFSC) in Santa Cruz, California (1112). Notice is also given that NMFS has received applications to renew and modify permits for scientific research from Marin Municipal Water District (MMWD) in Corte Madera, California (1047), Campbell Timberland Management, LLC. (CTM) in Fort Bragg, California (1079), Salmon Protection and Watershed Network (SPAWN) in Forest Knolls, California (1162), and Mendocino Redwood Company, LLC. (MRC) in Fort Bragg, California (1181). The permits would affect federally threatened Southern Oregon/Northern California Coast coho salmon, endangered Central California Coast coho salmon, threatened California Coastal Chinook salmon, endangered Sacramento River winter-run Chinook salmon, threatened Central Valley spring-run Chinook salmon, threatened Northern California steelhead, threatened Central California Coast steelhead, and threatened Central Valley steelhead. This document serves to notify the public of the availability of the permit applications for review and comment.

DATES: Written comments on the permit applications must be received no later than 5 p.m. Pacific Standard Time on May 25, 2006.

ADDRESSES: Comments submitted by e-mail must be sent to the following address FRNpermits.SR@noaa.gov. The applications and related documents are available for review by appointment, for permits 1112 Modification 2, 1047 Modification 1, 1079 Modification 2, 1162 Modification 3, and 1181 Modification 1: Protected Resources Division, NMFS, 777 Sonoma Avenue, Room 315, Santa Rosa, CA 95404 (ph: 707-575-6097, fax: 707-578-3435).

FOR FURTHER INFORMATION CONTACT: Jeffrey Jahn at phone number 707-575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Southern Oregon/Northern California Coast coho salmon (Oncorhynchus kisutch), endangered Central California Coast coho salmon (O. kisutch), threatened California Coastal Chinook salmon (O. tshawytscha), endangered Sacramento River winter-run Chinook salmon (O. tshawytscha), threatened Central Valley spring-run Chinook salmon (O. tshawytscha), threatened Northern California steelhead (O. mykiss), threatened Central California Coast steelhead (O. mykiss), and threatened Central Valley steelhead (O. mykiss).

Modification Requests Received

SWFSC requests to modify a 5-year permit (1112) for take of adult and juvenile Central California Coast coho salmon, Central California Coast steelhead, and Central Valley steelhead to conduct fish behavior, physiology, life history, population ecology, and population genetics research in various streams and estuaries in California. SWFSC requests authorization for an estimated annual non-lethal take of 400 adult Central California Coast coho salmon, 8,000 juvenile Central California Coast coho salmon, 50 juvenile Central California Coast coho salmon (hatchery), 500 adult Central California Coast steelhead, 13,200 juvenile Central California Coast steelhead, 50 juvenile Central California Coast steelhead (hatchery), 600 juvenile Central Valley steelhead, and 350 juvenile Central Valley steelhead (hatchery) with no more than 3% unintentional mortality to result from capture (by trawl, seine, fyke-net trap, hook and line, electrofishing, weir trap, or hand), handling, fin clipping, scale sampling, gill tissue sampling, tagging, and release of fish.

SWFSC also requests intentional lethal take of juvenile Central California Coast coho salmon, Sacramento River winter-run Chinook salmon, Central Valley spring-run Chinook salmon, Central California Coast steelhead, and Central Valley steelhead to conduct fish physiology, life history, population ecology, and population genetics research in various streams, estuaries, and coastal waters of California. SWFSC requests authorization for an estimated annual lethal take of 60 juvenile Central California Coast coho salmon, 110 juvenile Central California Coast coho salmon (hatchery), 50 juvenile Sacramento River winter-run Chinook salmon, 50 juvenile Central Valley spring-run Chinook salmon, 310 juvenile Central California Coast steelhead, 150 juvenile Central California Coast steelhead (hatchery), and 100 juvenile Central Valley steelhead to be captured (by trawl, seine, fyke-net trap, or electrofishing), handled, transported, held in a laboratory, and sacrificed for collection of various tissues.

SWFSC also requests take of previously dead adult carcasses of Central California Coast coho salmon and Central California Coast steelhead to collect population abundance, life history, and genetic information on spawning salmonids in various streams in California. SWFSC requests authorization to handle, tissue sample, and release an estimated 150 Central California Coast coho salmon adult carcasses and 100 Central California Coast steelhead adult carcasses annually. SWFSC does not request any take of live adult salmonids for this study.

In addition, SWFSC requests take of juvenile hatchery-produced Central California Coast coho salmon to conduct a captive rearing study and generate broodstock to be used in research and enhancement activities. SWFSC requests authorization for an estimated annual non-lethal take of 150 juvenile hatchery-produced Central California Coast coho salmon, with no more than 3% unintentional mortality to result from transport (from the Monterey Bay Salmon and Trout Project Kingfisher Flat Hatchery), handling, and captive rearing of fish.

Renewal and Modification Requests Received

MMWD requests to renew and modify a 5-year permit (1047) for take of juvenile Central California Coast coho salmon and Central California Coast steelhead to conduct fish population monitoring in Lagunitas and Walker Creek watersheds in Marin County, California. MMWD requests authorization for an estimated annual non-lethal take of 3,050 juvenile Central California Coast coho salmon and 5,300 juvenile Central California Coast steelhead, with no more than 5 percent unintentional mortality to result from capture by electrofishing, handling, fin clipping, and release of fish.

MMWD also requests take of previously dead adult carcasses of Central California Coast coho salmon, California Coastal Chinook salmon, and Central California Coast steelhead to collect genetic information on spawning salmonids in Lagunitas and Walker Creek watersheds in Marin County, California. MMWD requests authorization to handle, tissue sample, and release an estimated 100 Central California Coast coho salmon adult carcasses, 20 California Coastal Chinook salmon adult carcasses, and 20 Central California Coast steelhead adult carcasses annually. MMWD does not request any take of live adult salmonids for this study.

In addition, MMWD requests take of juvenile Central California Coast coho salmon, California Coastal Chinook salmon, and Central California Coast steelhead to conduct outmigration monitoring in Lagunitas Creek, Point Reyes Station, Marin County, California. MMWD requests authorization for an estimated annual non-lethal take of 10,000 juvenile Central California Coast coho salmon, 15,000 juvenile California Coastal Chinook salmon, and 3,400 juvenile Central California Coast steelhead with no more than 5 percent unintentional mortality to result from capture by rotary screw trap, handling, marking, and release of fish.

CTM requests to renew and modify a 5-year permit (1079) for take of juvenile Southern Oregon/Northern California Coast coho salmon, Central California Coast coho salmon, and Northern California steelhead to conduct fish population monitoring in South Fork Eel River, Usal Creek, Dehaven Creek, Wages Creek, Abalobadiah Creek, Ten Mile River, Pudding Creek, Noyo River, Big River, Salmon Creek, and Garcia River watersheds in Mendocino County, California. CTM requests authorization for an estimated annual non-lethal take of 400 juvenile Southern Oregon/Northern California Coast coho salmon, 2,600 juvenile Central California Coast coho salmon, and 4,000 juvenile Northern California steelhead, with no more than 2 percent unintentional mortality to result from capture by electrofishing, handling, and release of fish.

SPAWN requests to renew and modify a 5-year permit (1162) for take of juvenile Central California Coast coho salmon and Central California Coast steelhead to conduct fish rescue and relocation efforts in intermittent tributaries of San Geronimo Creek in Marin County, California. SPAWN requests authorization for an estimated annual non-lethal take of 2,500 juvenile Central California Coast coho salmon and 3,000 juvenile Central California Coast steelhead, with no more than 0.5 percent unintentional mortality to result from capture by dip net, handling, transport, and release of fish.

SPAWN also requests take of previously dead adult carcasses of Central California Coast coho salmon, California Coastal Chinook salmon, and Central California Coast steelhead to collect genetic information on spawning salmonids in San Geronimo and Lagunitas Creek watersheds in Marin County, California. SPAWN requests authorization to handle, tissue sample, and release an estimated 50 Central California Coast coho salmon adult carcasses, 10 California Coastal Chinook salmon adult carcasses, and 20 Central California Coast steelhead adult carcasses annually. SPAWN does not request any take of live adult salmonids for this study.

In addition, SPAWN requests take of juvenile Central California Coast coho salmon and Central California Coast steelhead to conduct migration monitoring in San Geronimo, Larsen, and Woodacre Creeks in Marin County, California. SPAWN requests authorization for an estimated annual non-lethal take of 5,000 juvenile Central California Coast coho salmon and 5,000 juvenile Central California Coast steelhead with no more than 2 percent unintentional mortality to result from capture (by fyke-net trap or pipe trap), handling, marking, and release of fish.

MRC requests to renew and modify a 5-year permit (1181) for take of juvenile Southern Oregon/Northern California Coast coho salmon, Central California Coast coho salmon, Northern California steelhead, and Central California Coast steelhead to conduct fish population monitoring in Hollow Tree Creek, Noyo River, Big River, Albion River, Navarro River, Greenwood Creek, Elk Creek, Garcia River, Gualala River, and Russian River watersheds in Sonoma and Mendocino counties, California as well as 9 other coastal streams in Mendocino County, California. MRC requests authorization for an estimated annual non-lethal take of 1,000 juvenile Southern Oregon/Northern California Coast coho salmon, 1,000 juvenile Central California Coast coho salmon, 3,000 juvenile Northern California steelhead, and 200 juvenile Central California Coast steelhead, with no more than 3.5 percent unintentional mortality to result from capture by electrofishing, handling, and release of fish.

MRC also requests take of previously dead adult carcasses of Southern Oregon/Northern California Coast coho salmon, Central California Coast coho salmon, California Coastal Chinook salmon, and Northern California steelhead to collect spawner abundance data in Hollow Tree Creek, Cottaneva Creek, Big River, Albion River, Navarro River, Elk Creek, and Garcia River watersheds in Mendocino County, California. MRC requests authorization to handle and release an estimated 500 Southern Oregon/Northern California Coast coho salmon adult carcasses, 850 Central California Coast coho salmon adult carcasses, 100 California Coastal Chinook salmon adult carcasses, and 200 Northern California steelhead adult carcasses annually. MRC does not request any take of live adult salmonids for this study.

In addition, MRC requests take of juvenile Central California Coast coho salmon and Northern California steelhead to conduct outmigration monitoring in Little North Fork Navarro River in Mendocino County, California. MRC requests authorization for an estimated annual non-lethal take of 4,500 juvenile Central California Coast coho salmon and 5,000 juvenile Northern California steelhead with no more than 2 percent unintentional mortality to result from capture by rotary screw trap, handling, fin clipping, and release of fish.

Dated: April 20, 2006.
Susan Pultz,
Acting Chief, Endangered Species Division, Office of Protected Resources, National Marine Fisheries Service.

[FR Doc. E6-6200 Filed 4-24-06; 8:45 am]

BILLING CODE 3510-22-S